ENVIRONMENTAL PROTECTION AGENCY

[FRL-9914-99-OA]

Notification of a Public Teleconference and Meeting of the Science Advisory Board Chemical Assessment Advisory Committee Augmented for the Ethylene Oxide Review

AGENCY: Environmental Protection Agency.

ACTION: Notice.

SUMMARY: The Environmental Protection Agency (EPA) Science Advisory Board (SAB) Staff Office announces two meetings of the Chemical Assessment Advisory Committee Augmented for the Ethylene Oxide Review (Augmented CAAC for EtO). A public teleconference will be held to learn about the development of the agency's draft Evaluation of the Inhalation Carcinogenicity of Ethylene Oxide (Revised External Review Draft—August 2014) and to discuss draft charge questions for the peer review of the document. A face-to-face meeting will be held in the Washington, DC metro area to conduct a peer review of the agency's draft Evaluation of the Inhalation Carcinogenicity of Ethylene Oxide (Revised External Review Draft—August 2014).

DATES: The public teleconference will be held on Tuesday, September 30, 2014, from 3:00 p.m. to 6:00 p.m. (Eastern Time). The public face-to-face meeting will be held on Tuesday, November 18, 2014, from 9:00 a.m. to 5:30 p.m. Eastern Time; Wednesday, November 19, 2014, from 8:30 a.m. to 5:00 p.m. Eastern Time; and Thursday, November 20, 2014, from 8:30 a.m. to 5:00 p.m. Eastern Time.

Location: The public teleconference will be conducted by telephone only. The public face-to-face meeting will be held in the Washington, DC metro area. The location will be posted on the SAB Web site when available.

FOR FURTHER INFORMATION CONTACT: Any member of the public wishing to obtain information concerning these public meetings may contact Mr. Aaron Yeow, Designated Federal Officer (DFO), via telephone at (202) 564-2050 or at yeow.aaron@epa.gov. General information concerning the EPA SAB can be found at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Augmented CAAC for EtO will hold a public teleconference and a public face-to-face meeting. The purpose of the teleconference is to learn about the development of the agency's draft Evaluation of the Inhalation Carcinogenicity of Ethylene Oxide (Revised External Review Draft—August 2014) and to discuss the draft charge questions for the peer review of the document. The purpose of the face-to-face meeting is to conduct a peer review of the agency's draft Evaluation of the Inhalation Carcinogenicity of Ethylene Oxide (Revised External Review Draft—August 2014). The Augmented CAAC for EtO will provide advice to the Administrator through the chartered SAB.

Background: EPA's Office of Research and Development requested that the SAB conduct a peer review of the draft Evaluation of the Inhalation Carcinogenicity of Ethylene Oxide (Revised External Review Draft—August 2014). The EPA SAB Staff Office augmented the SAB CAAC with subject matter experts to provide advice through the chartered SAB regarding this document.

Technical Contacts: Any technical questions concerning EPA's draft Evaluation of the Inhalation Carcinogenicity of Ethylene Oxide (Revised External Review Draft—August 2014) should be directed to Dr. Samantha Jones by telephone at 703-347-8580 or by email at jones.samantha@epa.gov.

Availability of Meeting Materials: Prior to the meeting, the review documents, agenda and other materials will be accessible through the calendar link on the blue navigation bar at http://www.epa.gov/sab/. Materials may also be accessed at the following SAB Web page http://yosemite.epa.gov/sab/sabproduct.nsf/fedrgstr_activites/Eto%20Inhalation%20Carcinogenicity?OpenDocument.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information. Members of the public wishing to provide comment should contact the DFO directly. Oral Statements: In general, individuals or groups requesting an oral presentation on a public teleconference will be limited to three minutes and an oral presentation at the face-to-face meeting will be limited to five minutes. Interested parties wishing to provide comments should contact Mr. Aaron Yeow (preferably via email) at the contact information noted above by September 23, 2014 to be placed on the list of public speakers for the teleconference and by November 11, 2014 to be placed on the list of public speakers for the face-to-face meeting. Written Statements: Written statements will be accepted throughout the advisory process; however, for timely consideration by Committee/Panel members, statements should be supplied to the DFO via email at the contact information noted above by September 23, 2014, for the teleconference and by November 11, 2014, for the face-to-face meeting. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Aaron Yeow at (202) 564-2050 or yeow.aaron@epa.gov. To request accommodation of a disability, please contact Mr. Yeow preferably at least ten days prior to the meeting to give EPA as much time as possible to process your request.

Dated: July 31, 2014.
Thomas H. Brennan,
Deputy Director, EPA Science Advisory Board Staff Office.

[FR Doc. 2014-18928 Filed 8-8-14; 8:45 am]

BILLING CODE 6560-50-P